DEPARTMENT OF JUSTICE

[OMB Number 1125-0010]

Agency Information Collection Activities; Proposed eCollection; eComments Requested; Extension of a Previously Approved Collection; Notice of Appeal to the Board of Immigration Appeals From a Decision of a DHS Officer (EOIR-29)

AGENCY: Executive Office for Immigration Review, Department of Justice.

ACTION: 30-Day notice.

SUMMARY: The Executive Office for Immigration Review (EOIR), Department of Justice (DOJ), will be submitting the following information collection request to the Office of Management and Budget (OMB) for review and approval in accordance with the Paperwork Reduction Act of 1995.

DATES: Comments are encouraged and will be accepted for 30 days until December 30, 2024.

FOR FURTHER INFORMATION CONTACT: The proposed information collection was previously published in the Federal Register on September 13, 2024, 89 FR 76510, allowing a 60 day-comment period. If you have additional comments especially on the estimated public burden or associated response time, suggestions, or need a copy of the proposed information collection instrument with instructions or additional information, please contact Zach Leciejewski, Attorney Advisor, Executive Office for Immigration Review, 5107 Leesburg Pike, Suite 2500, Falls Church, VA 22041, phone (703) 305-0990 or email eoir.pra.comments@usdoj.gov or Zach.Leciejewski@usdoj.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: A party affected by a decision of a Department of Homeland Security (DHS) Officer may appeal that decision to the Board of Immigration Appeals (BIA or Board), provided that the Board has jurisdiction pursuant to 8 CFR 1003.1(b). The party must complete the Form EOIR-29 and submit it to the DHS office having administrative control over the record of proceeding in order to exercise its regulatory right to appeal.

EOIR has made the following substantive changes to the form: allowing respondents to provide a safe mailing address and to designate another individual to receive mail; replacing the field for the respondent's petition form number with a new field for the respondent's petition receipt number; and including new fields for the respondent's street address, apartment or unit number, city, state, and zip code, rather than a single field for the respondent's address. In addition, EOIR has made the following non-substantive changes: modifying the appearance and formatting of the General Instructions; revising the existing form instructions for clarity; and updating links to web pages and resources embedded throughout the form. EOIR intends these revisions to reduce the public's burden in completing the form and to reduce the Agency's processing time for each form.

Overview of This Information Collection

1. Type of Information Collection: Revision and extension of a currently approved collection.

2. The Title of the Form/Collection: Notice of Appeal to the Board of Immigration Appeals from a Decision of a DHS Officer.

3. The agency form number, if any, and the applicable component of the Department sponsoring the collection: The form number is EOIR-29. The applicable component within the Department of Justice is the Executive Office for Immigration Review.

4. Affected public who will be asked or required to respond, as well as the obligation to respond: Individuals or Households. The obligation to respond is required to obtain/retain a benefit (appeal).

5. An estimate of the total number of respondents and the amount of time estimated for an average respondent to respond: The estimated annual number of respondents for the Form EOIR-29 is 3,056. The estimated time per response is 30 minutes.

6. An estimate of the total annual burden (in hours) associated with the collection: The total annual burden hours for this collection is 1,528 hours.

7. An estimate of the total annual cost burden associated with the collection, if applicable: There are no capital or start-up costs associated with this information collection. The estimated public cost is zero.

Total Burden Hours
Activity | Number of respondents | Frequency (annually) | Total annual responses | Time per response (minutes) | Total annual burden (hours)
Form EOIR-29 | 3,056 | 1 | 3,056 | 30 | 1,528
Unduplicated Totals | 3,056 |  | 3,056 |  | 1,528

If additional information is required contact: Darwin Arceo, Department Clearance Officer, United States Department of Justice, Justice Management Division, Policy and Planning Staff, Two Constitution Square, 145 N Street NE, 4W-218, Washington, DC.

Dated: November 25, 2024.
Darwin Arceo,
Department Clearance Officer for PRA, U.S. Department of Justice.

[FR Doc. 2024-28048 Filed 11-27-24; 8:45 am]

BILLING CODE 4410-30-P